NUCLEAR REGULATORY COMMISSION

Solicitation of Public Comments on the Second Year of Implementation of the Reactor Oversight Process

AGENCY: U.S. Nuclear Regulatory Commission.

ACTION: Request for public comment.

SUMMARY: Nearly 2 years have elapsed since the U.S. Nuclear Regulatory Commission (NRC) implemented its revised Reactor Oversight Process (ROP). The NRC is currently soliciting comments from members of the public, licensees, and interest groups related to the implementation of the ROP. This is a followup to the FRN issued in January 2001, which requested feedback on the first year of implementation.

DATES: The comment period expires on December 28, 2001. The NRC will consider comments received after this date if it is practical to do so, but is only able to ensure consideration of comments received on or before this date.

ADDRESSES: Comments may be e-mailed to nrcrep@nrc.gov or sent to Michael T. Lesar, Chief, Rules and Directives Branch, Office of Administration (Mail Stop T6-D59), U.S. Nuclear Regulatory Commission, Washington, DC 20555-0001. Comments may also be hand-delivered to Mr. Lesar at 11554 Rockville Pike, Rockville, Maryland, between 7:30 a.m. and 4:15 p.m. on Federal workdays.

Documents created or received at the NRC after November 1, 1999, are available electronically through the NRC's Public Electronic Reading Room on the Internet at http://www.nrc.gov/reading-rm.html. From this site, the public can access the NRC's Agencywide Documents Access and Management System (ADAMS), which provides text and image files of the NRC's public documents. For more information, contact the NRC's Public Document Room (PDR) Reference staff at 301-415-4737 or 800-397-4209, or by e-mail at pdr@nrc.gov.

FOR FURTHER INFORMATION CONTACT: Mr. Michael J. Maley, Office of Nuclear Reactor Regulation (Mail Stop OWFN 7A15), U.S. Nuclear Regulatory Commission, Washington DC 20555-0001. Mr. Maley can also be reached by telephone at 301-415-2919 or by e-mail at mjm3@nrc.gov.

SUPPLEMENTARY INFORMATION:

Program Overview

The mission of the NRC is to regulate the civilian uses of nuclear materials in the United States to protect the health and safety of the public and the environment, and to promote the common defense and security by preventing the proliferation of nuclear material. This mission is accomplished through the following activities:

• License nuclear facilities and the possession, use, and disposal of nuclear materials.

• Develop and implement requirements governing licensed activities.

• Inspect and enforce of licensee activities to ensure compliance with these requirements and the law.

While the NRC's responsibility is to monitor and regulate licensees' performance, the primary responsibility for safe operation and handling of nuclear materials rests with each licensee.

As the nuclear industry in the United States has matured for more than 25 years, the NRC and its licensees have learned much about how to safely operate nuclear facilities and handle nuclear materials. In April 2000, the NRC began to implement more effective and efficient inspection, assessment, and enforcement approaches, which apply insights from these years of regulatory oversight and nuclear facility operation. The NRC has also incorporated risk-informed principles and techniques into its oversight activities. A risk-informed approach to oversight enables the NRC to more appropriately apply its resources to oversight of operational areas that contribute most to safe operation at nuclear facilities.

After conducting a 6-month pilot program in 1999, assessing the results, and incorporating the lessons learned, the NRC began implementing the revised Reactor Oversight Process (ROP) at all 103 nuclear facilities (except D.C. Cook) on April 2, 2000. Inherent in the ROP are the following key NRC performance goals:

(1) Maintain safety by establishing and implementing a regulatory oversight process that ensures that plants are operated safely.

(2) Enhance public confidence by increasing the predictability, consistency, and objectivity of the oversight process; providing timely and understandable information; and providing opportunities for meaningful involvement by the public.

(3) Improve the effectiveness, efficiency, and realism of the oversight process by implementing a process of continuous improvement.

(4) Reduce unnecessary regulatory burden through the consistent application of the process and incorporation of lessons learned.

Key elements of the ROP include revised NRC inspection procedures, plant performance indicators, a significance determination process, and an assessment program that incorporates various risk-informed thresholds to help determine the level of NRC oversight and enforcement. Since process development began in 1998, the NRC has frequently communicated with the public by various means. These have included conducting public meetings in the vicinity of each licensed commercial nuclear power plant, issuing FRNs soliciting feedback on the process, publishing press releases about the new process, conducting multiple public workshops, placing pertinent background information in the NRC's Public Document Room, and establishing an NRC web site containing easily accessible information about the new program and licensee performance.

NRC Public Stakeholder Comments

The NRC continues to be interested in receiving feedback from members of the public, various public stakeholders, and industry groups on their insights regarding the second year of implementation of the ROP. In particular, the NRC is seeking responses to the questions listed below, which will provide important information that the NRC can use in ongoing program improvement. A summary of the feedback obtained will be provided to the Commission and included in the annual ROP self-assessment report.

Questions

Questions Related to the Efficacy of the Overall Reactor Oversight Process (ROP)

(As appropriate, please provide specific examples and suggestions for improvement.)

(1) Are the ROP oversight activities predictable (i.e., controlled by the process) and objective (i.e., based on supported facts, rather than relying on subjecting judgement)?

(2) Is the ROP risk-informed, in that the NRC's actions are graduated on the basis of increased significance?

(3) Is the ROP understandable and are the procedures and output products clear and written in plain English?

(4) Does the ROP provide adequate assurance that plants are being operated and maintained safely?

(5) Does the ROP improve the efficiency, effectiveness, and realism of the regulatory process?

(6) Does the ROP enhance public confidence?

(7) Has the public been afforded adequate opportunity to participate in the ROP and to provide inputs and comments?

(8) Has the NRC been responsive to public inputs and comments on the ROP?

(9) Has the NRC implemented the ROP as defined by program documents?

(10) Does the ROP reduce unnecessary regulatory burden on licensees?

(11) Does the ROP result in unintended consequences?

Questions Related to Specific ROP Program Areas

(As appropriate, please provide specific examples and suggestions for improvement.)

(12) Does the ROP take appropriate actions to address performance issues for those licensees that fall outside of the Licensee Response Column of the Action Matrix?

(13) Is the information contained in assessment reports relevant, useful, and written in plain language?

(14) Is the information in the inspection reports useful to you?

(15) Does the Performance Indicator Program minimize the potential for licensees to take actions that adversely impact plant safety?

(16) Does appropriate overlap exist between the Performance Indicator Program and the Inspection Program?

(17) Do reporting conflicts exist, or is there unnecessary overlap between reporting requirements of the ROP and those associated with the Institute of Nuclear Power Operations, the World Association of Nuclear Operations, or the Maintenance Rule?

(18) Does NEI 99-02, “Regulatory Assessment Performance Indicator Guideline” provide clear guidance regarding Performance Indicators?

(19) Does the Significance Determination Process yield equivalent results for issues of similar significance in all ROP cornerstones?

(20) Please provide any additional information or comments on other program areas related to the Reactor Oversight Process. Other areas of interest may include the treatment of cross-cutting issues in the ROP, the risk-based evaluation process associated with determining event response, and the reduced subjectivity and elevated threshold for documenting issues in inspection reports.

Dated at Rockville, Maryland, this 15th day of November 2001.
For the U.S. Nuclear Regulatory Commission.
Michael R. Johnson,
Inspection Program Branch, Division of Inspection Program Management, Office of Nuclear Reactor Regulation.

[FR Doc. 01-29132 Filed 11-20-01; 8:45 am]

BILLING CODE 7590-01-P